DEPARTMENT OF ENERGY

Federal Energy Regulatory Commission

[Docket No. EC00-142-000, et al.]

Cleco Utility Group Inc., et al.; Electric Rate and Corporate Regulation Filings

September 27, 2000.

Take notice that the following filings have been made with the Commission:

1. Cleco Utility Group Inc.

[Docket No. EC00-142-000]

Take notice that on September 22, 2000, Cleco Utility Group Inc. (Cleco Utility) submitted an application pursuant to Section 203 of the Federal Power Act for authority to implement a proposed restructuring of Cleco Utility's business organization to operate as a limited liability company rather than a corporation that would be accomplished by means of a merger.

Comment date: October 13, 2000, in accordance with Standard Paragraph E at the end of this notice.

2. Cannelton Hydroelectric Project, L.P.

[Docket No. EG00-257-000]

Take notice that on September 25, 2000, Cannelton Hydroelectric Project, L.P. (Cannelton), 120 Calumet Court, Aiken, South Carolina 29801, filed with the Federal Energy Regulatory Commission an application for determination of exempt wholesale generator status pursuant to part 365 of the Commission's regulations.

Cannelton is a Tennessee limited partnership that proposes to construct, own and operate a hydroelectric facility in Hancock County, Kentucky. The facility will consist of a 79.2 MW hydroelectric plant at the United States Army Corps of Engineers' Cannelton Locks and Dam on the Ohio River in Hancock County, Kentucky. Power modules, containing small turbines and generators, will be installed in eight of the gate bays at the existing Cannelton Dam. Expected annual energy generated will be 363 GWh. Interconnecting transmission facilities necessary to effect a sale of electric energy at wholesale include switchgear and an 8.3 mile long, 138 kV transmission line from the project along the Kentucky side of the river to the LG&E Cloverport substation.

Comment date: October 18, 2000, in accordance with Standard Paragraph E at the end of this notice. The Commission will limit its consideration of comments to those that concern the adequacy or accuracy of the application.

3. Smithland Hydroelectric Partners, Ltd.

[Docket No. EG00-258-000]

Take notice that on September 25, 2000, Smithland Hydroelectric Partners, Ltd. (Smithland), 120 Calumet Court, Aiken, South Carolina 29801, filed with the Federal Energy Regulatory Commission an application for determination of exempt wholesale generator status pursuant to part 365 of the Commission's regulations.

Smithland is a Kentucky partnership that proposes to construct, own and operate a hydroelectric facility in Livingston County, Kentucky. The facility will consist of an 83 MW hydroelectric plant at the United States Army Corps of Engineers' Smithland Lock and Dam on the Ohio River east of Smithland, Kentucky in Livingston County. Power modules, containing small turbines and generators, will be installed in five of the eleven gate bays at Smithland Dam. Expected annual energy generated will be 352 GWh. Interconnecting transmission facilities necessary to effect a sale of electric energy at wholesale include gas-isolated switchgear and an 11.4 mile long, 161 kV transmission line from the project to an interconnection with TVA's 500/161 kV Marshall substation or, alternatively if subsequently approved by the Commission, to an interconnection with the LG&E Energy Livingston County, KY substation.

Comment date: October 18, 2000, in accordance with Standard Paragraph E at the end of this notice. The Commission will limit its consideration of comments to those that concern the adequacy or accuracy of the application.

4. Duke Power, a Division of Duke Energy Corporation

[Docket No. ER00-3454-001]

Take notice that on September 22, 2000, Duke Power, a division of Duke Energy Corporation (Duke Power), tendered for filing FERC Electric Tariff, Original Vol. No. 5—Wholesale Market-Based Rate Tariff Providing For Sales Of Capacity, Energy, Or Ancillary Services And Resale Of Transmission Rights. This filing replaces an earlier filing in Docket ER00-3454.

Comment date: October 13, 2000, in accordance with Standard Paragraph E at the end of this notice.

5. Mid-Atlantic Area Council

[Docket No. ER00-3735-000]

Take notice that on September 22, 2000, PJM Interconnection, L.L.C. (PJM) in its administrative support role to the Mid-Atlantic Area Council (MAAC), submitted for filing a new Mid-Atlantic Area Council Agreement (MAAC Agreement). PJM states that the new MAAC Agreement provides for broad membership, a new governance structure that is not dominated by any company or sector, an independent compliance and enforcement unit, and recovery of MAAC expense through PJM's Open Access Transmission Tariff.

PJM requests an effective date of January 1, 2001 for the new MAAC Agreement.

Comment date: October 13, 2000, in accordance with Standard Paragraph E at the end of this notice.

6. Southern California Edison Company

[Docket No. ER00-3739-000]

Take notice that on September 22, 2000, Southern California Edison Company (SCE) tendered for filing a Service Agreement for Wholesale Distribution Service (Agreement) between AES Placerita, Inc. (Placerita) and SCE.

This Agreement specifies the terms and conditions pursuant to which SCE will provide Distribution Service for up to an additional 15 MW of power produced by Placerita's generating facility. The facilities provided for in the Interconnection Facilities Agreement executed October 3, 1999 are all the Direct Assignment Facilities required to provide this service.

Comment date: October 13, 2000, in accordance with Standard Paragraph E at the end of this notice.

7. New York Independent System Operator, Inc.

[Docket No. ER00-3740-000]

Take notice that on September 22, 2000, the New York Independent System Operator, Inc. (NYISO) tendered for filing proposed revisions to Sections 5.9-5.15 of its Market Administration and Control Area Services Tariff.

The NYISO requests an effective date of 60 days after this filing (November 21, 2000).

Copies of this filing were served upon all persons who have signed the NYISO Market Administration and Control Area Services Tariff.

Comment date: October 13, 2000, in accordance with Standard Paragraph E at the end of this notice.

8. PJM Interconnection, L.L.C.

[Docket No. ER00-3741-000]

Take notice that on September 22, 2000, PJM Interconnection, L.L.C. (PJM), tendered for filing an executed umbrella service agreement for short-term firm point-to-point transmission service for Amerada Hess Corporation (Amerada), an executed service agreement for non-firm point-to-point transmission service for Amerada, and an executed umbrella service agreement for network integration transmission service for Metromedia Energy, Inc. (Metromedia).

Copies of this filing were served upon Amerada, Metromedia, and the state commissions within the PJM control area.

Comment date: October 13, 2000, in accordance with Standard Paragraph E at the end of this notice.

9. Northeast Utilities Service Company

[Docket No. ER00-3742-000]

Take notice that on September 22, 2000, Northeast Utilities Service Company (NUSCO), on behalf of The Connecticut Light and Power Company (CL&P) and Western Massachusetts Electric Company (WMECO), tendered for filing two agreements dated April 10, 2000, under which the Companies have agreed to sell and deliver to Constellation Power Source, Inc. (CPS) capacity and energy and associated ancillary services to which the Companies are entitled under sixteen power purchase agreements.

To permit the transaction to close as scheduled, NUSCO requests that this filing be accepted by no later than December 1, 2000.

Comment date: October 13, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-25406 Filed 10-3-00; 8:45 am]

BILLING CODE 6717-01-P